DEPARTMENT OF THE INTERIOR

National Park Service

[NPS-WASO-NAGPRA-NPS0024982; PPWOCRADN0-PCU00RP14.R50000]

Notice of Intent To Repatriate Cultural Items: United States Army Corps of Engineers, Tulsa District, Tulsa, OK

AGENCY: National Park Service, Interior.

ACTION: Notice.

SUMMARY: The United States Army Corps of Engineers, Tulsa District, in consultation with the appropriate Indian tribes or Native Hawaiian organizations, has determined that the cultural items listed in this notice meet the definition of unassociated funerary objects. Lineal descendants or representatives of any Indian tribe or Native Hawaiian organization not identified in this notice that wish to claim these cultural items should submit a written request to the United States Army Corps of Engineers, Tulsa District. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the United States Army Corps of Engineers, Tulsa District, at the address in this notice by March 26, 2018.

ADDRESSES: Michelle Horn, CESWT-ODR-N, US Army Corps of Engineers, Tulsa District, 2488 East 81st Street, Tulsa, OK 74137-4290, telephone (918) 669-7642, email Michelle.C.Horn@usace.army.mil.

SUPPLEMENTARY INFORMATION: Notice is here given in accordance with the Native American Graves Protection and Repatriation Act (NAGPRA), 25 U.S.C. 3005, of the intent to repatriate cultural items under the control of the United States Army Corps of Engineers, Tulsa District, Tulsa, OK, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1971, human remains and funerary objects were exposed during a work project at site 34JN30, Lake Texoma, Johnson County, OK, and removed by University of Oklahoma staff. No known individuals were identified. Two hand painted semi-porcelain tea cup fragments (re-fit into one object) were located with human tibiae fragments and interpreted as representing a burial. The tibiae fragments were not located in the collection during a NAGPRA inventory in 1995, nor during a re-inventory in 2004, and may not have been collected at the time of excavation. The one unassociated funerary object consists of the two teacup fragments re-fit into a whole object.

The burial was located within the region historically occupied by The Chickasaw Nation. Two other burials were recovered at 34JN30 and were repatriated to The Chickasaw Nation in accordance with NAGPRA in 2013 (78 FR 27995-27996, 05/13/2013). Those burials conformed to the burial practices of the Chickasaw as seen in ethnographic data, including the placement of grave goods on top of the burial with sheets of bark. The third burial, represented by the tibiae fragments and broken teacup, was located 25 feet from the other two and can reasonably be assumed to be associated with the same site. The temporal placement of this site in the mid-1800s was based on the archaeological seriation of historic artifacts from the burials and larger site assemblage.

Determinations Made by the United States Army Corps of Engineers, Tulsa District

Officials of the United States Army Corps of Engineers, Tulsa District, have determined that:

• Pursuant to 25 U.S.C. 3001(3)(B), the one cultural item described above is reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary object and The Chickasaw Nation.

Additional Requestors and Disposition

Lineal descendants or representatives of any Indian tribe or Native Hawaiian organization not identified in this notice that wish to claim these cultural items should submit a written request with information in support of the claim to Michelle Horn, CESWT-ODR-N, US Army Corps of Engineers, Tulsa District, 2488 East 81st Street, Tulsa, OK 74137-4290, telephone (918) 669-7642, email Michelle.C.Horn@usace.army.mil, by March 26, 2018. After that date, if no additional claimants have come forward, transfer of control of the unassociated funerary object to The Chickasaw Nation may proceed.

The United States Army Corps of Engineers, Tulsa District, is responsible for notifying The Chickasaw Nation that this notice has been published.

Dated: February 2, 2018.
Melanie O'Brien,
Manager, National NAGPRA Program.

[FR Doc. 2018-03635 Filed 2-21-18; 8:45 am]

BILLING CODE 4312-52-P